DEPARTMENT OF LABOR

Employment and Training Administration

[TA-W-62,704]

Spring Window Fashions, Including On-Leased Employees From Kelly Services, Spherion, Keystone Staffing, Ashford Staffing and One Source, Montgomery, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 27, 2008, applicable to workers of Spring Window Fashions, including on-site leased workers from Kelly Services, Spherion, Keystone Staffing and Ashford Staffing, Montgomery, Pennsylvania. The notice was published in the Federal Register on March 11, 2008 (73 FR 13017).

At the request of the petitioners, the Department reviewed the certification for workers of the subject firm. The workers are engaged in the production of window coverings such as mini blinds and pleated blinds, and other forms of window treatments.

New information shows that workers leased from One Source were employed on-site at the Montgomery, Pennsylvania location of Spring Window Fashions. The Department as determined that these workers were sufficiently under the control of the subject firm to be considered leased workers.

Based on these findings, the Department is amending this certification to include leased workers from One Source working on-site at the Montgomery, Pennsylvania location of the subject firm.

The amended notice applicable to TA-W-62,704 is hereby issued as follows:

All workers of Spring Window Fashions, including on-site leased workers from Kelly Services, Spherion, Keystone Staffing, Ashford Staffing and One Source, Montgomery, Pennsylvania, who became totally or partially separated from employment on or after January 4, 2007, through February 27, 2010, are eligible to apply for adjustment assistance under Section 223 of the Trade Act of 1974, and are also eligible to apply for alternative trade adjustment assistance under Section 246 of the Trade Act of 1974.

Signed at Washington, DC this 27th day of March 2009.
Richard Church,
Certifying Officer, Division of Trade Adjustment Assistance.

[FR Doc. E9-7796 Filed 4-6-09; 8:45 am]

BILLING CODE 4510-FN-P